ENVIRONMENTAL PROTECTION AGENCY

[ER-FRL-6625-2]

Environmental Impact Statements; Notice of Availability

Responsible Agency: Office of Federal Activities, General Information (202) 564-7167 or www.epa.gov/oeca/ofa.

Weekly receipt of Environmental Impact Statements Filed December 24, 2001 Through December 28, 2001

Pursuant to 40 CFR 1506.9.

EIS No. 010538, Final EIS, FHW, WI, County Highway J/WIS 164 (I-94 to County E) Corridor Improvements Project, Funding, City of Pewaukee, Villages of Pewaukee and Sussex, Towns of Lisbon, Richfield and Polk, Waukesha and Washington Counties, WI, Wait Period Ends: January 28, 2002, Contact: Richard Madzak (608) 829-7510.

The above FHW EIS should have appeared in the December 28, 2001 Federal Register. The 30-day Wait Period is Calculated from December 28, 2001.

EIS No. 010539, Final EIS, COE, CA, White Slough Flood Control Study, Tidal Circulation Improvements and Section 205 Program Authorities Continuation, Vallejo Sanitation and Flood Control District, City of Vallejo, Solano County, CA, Wait Period Ends: January 28, 2002, Contact: Tamara Terry (415) 977-8545.

The above COE EIS should have appeared in the December 28, 2001 Federal Register. The 30-day Wait Period is Calculated from December 28, 2001.

EIS No. 010540, Draft EIS, FTA, AZ, Central Phoenix/East Valley Light Rail Transit Corridor, Construction, Operation and Maintenance, Funding, Cities of Phoenix, Tempe and Mesa, Maricopa County, AZ, Comment Period Ends: February 19, 2002, Contact: Hymie Luden (415) 744-3115.

EIS No. 010541, Draft EIS, COE, TX, Texas City's Proposed Shoal Point Container Terminal Project, Containerized Cargo Gateway Development, US Army COE Section 404 and 10 Permits Issuance, Dredged Material Placement Area (DMPA), City of Texas, Galveston County, TX, Comment Period Ends: February 19, 2002, Contact: Sharon Manella Tirpak (409) 766-3931.

EIS No. 010542, Draft Supplement EIS, AFS, MT, Clancy-Unionville Vegetation Manipulation and Travel Management Project, Updated and New Information concerning Cumulative Effects and Introduction of Alternative F, Clancy-Unionville Implementation Area, Helena National Forest, Helena Ranger District, Lewis and Clark and Jefferson Counties, MT, Comment Period Ends: February 19, 2002, Contact: Jerry Meyer (406) 449-5201.

EIS No. 010543, Final EIS, NOA, CA, Goat Canyon Enhancement Project, Sediment Basins, Staging Area and Visual Screening Berm Establishment, Tijuana River National Estuarine Research Reserve (TRNERR), Imperial Beach, City and County of San Diego, CA, Wait Period Ends: February 04, 2002, Contact: Nina Garfield (301) 563-1171.

EIS No. 010544, Final EIS, USA, CA, Oakland Army Base Disposal and Reuse Plan, Implementation, City of Oakland, Alameda County, CA, Wait Period Ends: February 04, 2002, Contact: Theresa Persick Arnold (703) 697-0216.

Dated: December 31, 2001.
Anne Norton Miller,
Director, Office of Federal Activities.

[FR Doc. 02-227 Filed 1-3-02; 8:45 am]

BILLING CODE 6560-50-P